OFFICE OF PERSONNEL MANAGEMENT

Excepted Service; Consolidated Listing of Schedules A, B, and C Exceptions

AGENCY: Office of Personnel Management.

ACTION: Notice.

SUMMARY: This notice provides the consolidated list of all agency-specific excepted authorities, approved by the Office of Personnel Management (OPM), under Schedules A, B, and C, as of June 30, 2022, as required by Civil Service Rule VI, Exceptions from the Competitive Service.

FOR FURTHER INFORMATION CONTACT: Julia Alford, Senior Executive Resources Services, Senior Executive Service and Performance Management, Employee Services, 202-606-2246.

SUPPLEMENTARY INFORMATION: Civil Service Rule VI (5 CFR 6.1) requires OPM to publish notice of exceptions granted under Schedules A, B, and C. Under 5 CFR 213.103(a), all Schedules A, B, and C appointing authorities available for use by all agencies must be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c), a consolidated listing of all Schedule A, B, and C authorities, current as of June 30 of each year, must be published annually in the Notices section of the Federal Register. This notice complies with that requirement and provides the consolidated list below. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval. OPM maintains current information on the status of all Schedule A, B, and C appointing authorities. Interested parties needing information about specific authorities during the year may obtain information by writing to the Senior Executive Resource Services, Office of Personnel Management, 1900 E Street NW, Room 7412, Washington, DC 20415, or by calling (202) 606-2246.

The following exceptions are current as of June 30, 2022.

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 20 positions at grades GS-5 through 11 on the staff of the Bureau.

(h) Bureau of Administration—

(1) (Reserved)

(2) One position of the Director, Art in Embassies Program, GM-1001-15.

(3) (Reserved)

05. Department of the Treasury (Sch. A, 213.3105

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

(i) Office of the Special Inspector General for Pandemic Recovery—Temporary or time-limited positions at the GS level in the Office of the Special Inspector General for Pandemic Recovery. This authority may be used for the following occupational series: GS-1811 Special Agent, GS-18100 Investigator, GS-1805 Investigative Research/Analyst, GS-1801 Inspection/Investigative Analyst, GS-511 Auditor, GS-510 Accounting, GS-201 Human Resource Specialist, GS-343 Management Analyst, GS-301 Miscellaneous Administrative and Program, GS-2210 Information Technology, GS-1102 Contracting, GS-560 Budget Analyst, GS-1035 Public Affairs at the GS-9 through GS-15 levels. No new appointments may be made under this authority after December 14, 2025 or the termination of the SIGPR, whichever occurs first.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, opsimilar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-, 2-, 3-, 4-, or 5-year increments indefinitely thereafter.

(i) (Reserved)

(j) U.S. Military Academy Preparatory School, West Point, New York—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: security (series 0080), intelligence analysis (series 0132), investigative analyst (series 1805), investigator (series 1810), and criminal investigator (series 1811) at the GS-9 through GS-15 grade levels. No new appointments may be made under this authority after January 5, 2022 or the effective date of the completion of regulations implementing the Border Patrol Agency Pay Reform Act of 2014, whichever comes first.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services—

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Positions in support of decennial operations (including decennial pre-tests). Appointments may be made on a time limited basis that lasts the duration of decennial operations but may not exceed 7 years. Extensions beyond 7 years may be requested on a case-by-case basis

(2) Positions of clerk, field representative, field leader, and field supervisor in support of data collection operations (non-decennial operations). Appointments may be made on a permanent or a time-limited basis. Appointments made on a time limited basis may not exceed 4 years. Extensions beyond 4 years may be requested on a case-by-case basis.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Not to exceed 91 professional positions in grades GS-13 through GS-15.

(m) First Responder Network (FirstNet) Authority—

(1) Not exceed 12 FirstNet Board Member positions. Employment and compensation must be in accordance with 47 U.S.C. 1424. Appointments are time-limited for up to 3 years and FirstNet may reappoint an individual hired under this authority to a second 3-year term. An appointment may be extended beyond the 3-year limit until a successor member has taken office, or until the end of the calendar year in which an appointment expires, whichever is earlier.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) Reserved

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 5170-5189, the Secretary of Agriculture under 7 U.S.C. 1961, or the Small Business Administration under 15 U.S.C. 636(b)(1) declares an area to be a disaster area, positions filled by time-limited appointment of employees to make and administer disaster loans in the area under the Small Business Act, as amended. Service under this authority may not exceed 7 years. Exception to this time limit may only be made with prior U.S. Office of Personnel Management approval. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Director and Deputy Resident Country Director, Threshold Director and Deputy Threshold Director. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one Global European Studies Program Administrator, one Latin American Program Administrator, one Russian Studies Program Administrator, four Social Science Program Administrators, one Middle East Studies Program Administrator, one African Studies Program Administrator, one Polar Studies Program Administrator, one Canadian Studies Program Administrator; one China Studies Program Administrator, one Science, Technology and Innovation Program Administrator, and one Mexico Studies Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: the Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12 through GS-15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

(g) Not to exceed 100 positions in the Bureau of Intelligence and Research (INR) at the GS-5 through GS-15 levels in the following occupational series GS-0080 Security Administration, GS-0110 Economics, GS-0130 Foreign Affairs, GS-0132 Intelligence, GS-0150 Geography, GS-0343 Management and Program Analysis, GS-1083 Technical Writing and Editing, GS-1370 Cartography, and GS-1530 Statistics. This authority may be used to make time-limited appointments of up to 48 months. No new appointments may be made after March 31, 2023 or when INR transitions to appointments under 50 U.S.C. 3024(v) whichever comes first.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

(i) Office of the Special Inspector General for Pandemic Recovery

Temporary or time-limited positions at the GS level in the Office of the Special Inspector General for Pandemic Recovery. This authority may be used for the following occupational series: GS-1811 Special Agent, GS-18100 Investigator, GS-1805 Investigative Research/Analyst, GS-1801 Inspection/Investigative Analyst, GS-511 Auditor, GS-510 Accounting, GS-201 Human Resource Specialist, GS-343 Management Analyst, GS-301 Miscellaneous Administrative and Program, GS-2210 Information Technology, GS-1102 Contracting, GS-560 Budget Analyst, GS-1035 Public Affairs at the GS-9 through GS-15 levels. No new appointments may be made under this authority after December 14, 2025 or the termination of the SIGPR, whichever occurs first.

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3- years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms—

(1) Positions, grades GS-5 through GS-12 (or equivalent), of Criminal Investigator. Service under this authority may not exceed 3 years and 120 days.

11. Department of Homeland Security (Sch. B, 213.3211)

(a) Coast Guard—

(1) (Reserved)

(b) Secret Service—Positions concerned with the protection of the life and safety of the President and members of his immediate family, or other persons for whom similar protective services are prescribed by law, when filled in accordance with special appointment procedures approved by OPM. Service under this authority may not exceed:

(1) a total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 27 positions of GS-0850 Electrical Engineer, GS-0855 Electronics Engineer, or GS-0854 Computer Engineer in grades GS-11 through GS-15, or positions that require subject-matter expertise with telecommunications policy, 911 communication programs, environmental specialists, and spectrum policy and related programs. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Center for Leadership Development—No more than 72 positions of faculty members at grades GS-13 through GS-15. Initial appointments under this authority may be made for any period up to 3 years and may be extended in 1, 2, or 3 year increments.

Schedule C

Agency name | Organization name | Position title | Authorization No. | Effective date
DEPARTMENT OF AGRICULTURE | Office of the Under Secretary for Food Safety | Confidential Assistant | DA210125 | 07/08/2021
| Agricultural Marketing Service | Senior Advisor for Organics and Emerging Markets | DA210150 | 09/16/2021
| Appalachian Regional Commission | Senior Policy Advisor | AP220001 | 01/01/2022
| Farm Service Agency | Confidential Assistant | DA220016 | 11/05/2021
|  | Policy Advisor (2) | DA220007 DA220012 | 10/21/2021 10/24/2021
|  | State Executive Director—Alabama | DA220020 | 11/18/2021
|  | State Executive Director—Alaska | DA220091 | 02/25/2022
|  | State Executive Director—Arkansas | DA220038 | 01/01/2022
|  | State Executive Director—California | DA220047 | 01/14/2022
|  | State Executive Director—Colorado | DA220023 | 11/29/2021
|  | State Executive Director—Connecticut | DA220127 | 05/16/2022
|  | State Executive Director—Delaware | DA220022 | 11/18/2021
|  | State Executive Director—Florida | DA220072 | 02/11/2022
|  | State Executive Director—Georgia | DA210143 | 09/16/2021
|  | State Executive Director—Hawaii | DA220136 | 06/21/2022
|  | State Executive Director—Illinois | DA220035 | 12/27/2021
|  | State Executive Director—Indiana | DA220114 | 04/08/2022
|  | State Executive Director—Iowa | DA220014 | 11/18/2021
|  | State Executive Director—Kansas | DA220073 | 02/11/2022
|  | State Executive Director—Kentucky | DA220042 | 01/03/2022
|  | State Executive Director—Maine | DA220032 | 12/27/2021
|  | State Executive Director—Maryland | DA220065 | 01/31/2022
|  | State Executive Director—Massachusetts | DA220063 | 01/31/2022
|  | State Executive Director—Michigan | DA210153 | 09/16/2021
|  | State Executive Director—Minnesota | DA220052 | 01/14/2022
|  | State Executive Director—Mississippi | DA220010 | 10/29/2021
|  | State Executive Director—Missouri | DA220024 | 01/03/2022
|  | State Executive Director—Nebraska | DA220049 | 01/14/2022
|  | State Executive Director—Nevada | DA220089 | 02/25/2022
|  | State Executive Director—New Hampshire | DA220105 | 03/27/2022
|  | State Executive Director—New Jersey | DA220080 | 02/11/2022
|  | State Executive Director—New York | DA220019 | 12/09/2021
|  | State Executive Director—North Dakota | DA220092 | 02/26/2022
|  | State Executive Director—Ohio | DA220118 | 04/22/2022
|  | State Executive Director—Oklahoma | DA220079 | 02/11/2022
|  | State Executive Director—Pennsylvania | DA220064 | 01/31/2022
|  | State Executive Director—Rhode Island | DA220120 | 04/22/2022
|  | State Executive Director—South Dakota | DA220113 | 04/08/2022
|  | State Executive Director—Tennessee | DA220070 | 01/31/2022
|  | State Executive Director—Texas | DA220039 | 01/01/2022
|  | State Executive Director—Texas | DA220123 | 05/09/2022
|  | State Executive Director—Vermont | DA220077 | 02/11/2022
|  | State Executive Director—Virginia | DA220051 | 01/14/2022
|  | State Executive Director—Washington | DA220074 | 02/11/2022
|  | State Executive Director—West Virginia | DA220021 | 12/09/2021
|  | State Executive Director—Wisconsin | DA210158 | 09/30/2021
|  | State Executive Director—New Mexico | DA210144 | 09/16/2021
|  | State Executive Director—Oregon | DA220111 | 04/08/2022
|  | State Executive Director—South Carolina | DA210145 | 09/16/2021
|  | State Executive Director, Idaho | DA220048 | 01/14/2022
|  | State Executive Director, North Carolina | DA210139 | 09/16/2021
| Food and Nutrition Service | Senior Policy Advisor | DA220106 | 03/27/2022
|  | Senior Advisor for External Engagement | DA220108 | 03/27/2022
| National Institute of Food and Agriculture | Senior Advisor | DA220018 | 11/05/2021
| Natural Resources Conservation Service | Confidential Assistant | DA220069 | 01/31/2022
| Office of Communications | Deputy Press Secretary | DA220001 | 10/21/2021
|  | Press Assistant | DA210133 | 08/26/2021
|  | Press Secretary | DA220109 | 03/28/2022
| Office of the Assistant Secretary for Congressional Relations | Confidential Assistant Deputy Director for Intergovernmental Affairs | DA220107 DA210129 | 03/27/2022 07/08/2021
|  | Legislative Advisor | DA210134 DA220121 | 08/26/2021 04/22/2022
|  | Legislative Analyst | DA210155 | 09/24/2021
| Office of the Deputy Secretary | Special Assistant | DA220067 | 01/31/2022
| Office of the General Counsel | Confidential Assistant Senior Counselor | DA220027 DA220115 | 11/30/2021 04/08/2022
| Office of the Secretary | Advance Associate Confidential Assistant (2) | DA220068 DA210131 DA210137 | 01/31/2022 07/22/2021 08/26/2021
|  | Director of Scheduling and Advance | DA220116 | 04/08/2022
|  | Scheduler | DA220110 | 03/27/2022
|  | Senior Advisor | DA210151 | 09/08/2021
|  | Senior Advisor for Climate | DA210135 | 08/26/2021
| Office of the Under Secretary for Food, Nutrition and Consumer Services | Chief of Staff | DA220093 | 02/25/2022
| Office of the Under Secretary for Marketing and Regulatory Programs | Confidential Assistant | DA220094 | 02/25/2022
| Office of the Under Secretary for Research, Education, and Economics | Special Assistant | DA220011 | 10/21/2021
| Office of the Under Secretary for Trade and Foreign Agricultural Affairs | Chief of Staff | DA210127 | 07/08/2021
| Office of Under Secretary for Natural Resources and Environment | Confidential Assistant Chief of Staff | DA220015 DA220056 | 11/05/2021 01/14/2022
| Risk Management Agency | Chief of Staff | DA220128 | 05/20/2022
| Rural Business Service | Confidential Assistant | DA210136 | 08/26/2021
| Office of Rural Development | State Director—Colorado | DA220009 | 10/29/2021
|  | State Director—Alabama | DA210152 | 09/17/2021
|  | State Director—Alaska | DA220095 | 02/26/2022
|  | State Director—Arizona | DA220003 | 10/29/2021
|  | State Director—Arkansas | DA220122 | 05/09/2022
|  | State Director—California | DA220132 | 06/03/2022
|  | State Director—Delaware, MD | DA220031 | 12/27/2021
|  | State Director—Florida | DA220053 | 01/14/2022
|  | State Director—Hawaii | DA220071 | 02/26/2022
|  | State Director—Idaho | DA220054 | 01/14/2022
|  | State Director—Illinois | DA220029 | 12/27/2021
|  | State Director—Indiana | DA220084 | 02/25/2022
|  | State Director—Iowa | DA220013 | 11/18/2021
|  | State Director—Kentucky | DA220119 | 04/22/2022
|  | State Director—Louisiana | DA220101 | 03/27/2022
|  | State Director—Maine | DA220026 | 12/09/2021
|  | State Director—Massachusetts | DA220090 | 02/25/2022
|  | State Director—Michigan | DA210159 | 09/30/2021
|  | State Director—Minnesota | DA220086 | 02/25/2022
|  | State Director—Mississippi | DA220087 | 02/25/2022
|  | State Director—Missouri | DA220025 | 12/09/2021
|  | State Director—Montana | DA220041 | 01/03/2022
|  | State Director—Nebraska | DA220030 | 12/30/2021
|  | State Director—Nevada | DA220099 | 03/27/2022
|  | State Director—New Jersey | DA220083 | 02/25/2022
|  | State Director—New Mexico | DA210148 | 09/16/2021
|  | State Director—New York | DA220028 | 01/01/2022
|  | State Director—North Carolina | DA210146 | 09/16/2021
|  | State Director—North Dakota | DA220102 | 03/27/2022
|  | State Director—Oklahoma | DA220088 | 03/11/2022
|  | State Director—Oregon | DA220066 | 01/31/2022
|  | State Director—Pennsylvania | DA210157 | 09/30/2021
|  | State Director—South Carolina | DA210140 | 09/16/2021
|  | State Director—South Dakota | DA220100 | 03/27/2022
|  | State Director—Tennessee | DA220037 | 01/01/2022
|  | State Director—Utah | DA220104 | 03/27/2022
|  | State Director—Virginia | DA220098 | 03/10/2022
|  | State Director—Washington | DA220040 | 01/03/2022
|  | State Director—West Virginia | DA220103 | 03/27/2022
|  | State Director—Wisconsin | DA220004 | 10/29/2021
|  | State Director—Wyoming | DA220075 | 02/11/2022
|  | State Director—Georgia | DA210147 | 09/16/2021
|  | State Director—Vermont, NH | DA220043 | 01/03/2022
APPALACHIAN REGIONAL COMMISSION | Rural Utilities Service | Chief of Staff | DA210132 | 07/22/2021
ARCTIC RESEARCH COMMISSION | Arctic Research Commission | Confidential Assistant | AW220002 | 01/28/2022
DEPARTMENT OF COMMERCE | Office of the Assistant Secretary for Industry and Analysis | Director, Office of Industry Engagement | DC210176 | 08/16/2021
| Office of the Assistant Secretary Legislative and Intergovernmental Affairs | Legislative Affairs Specialist | DC220068 | 02/10/2022
| Bureau of Industry and Security | Congressional Affairs Specialist | DC220011 | 11/05/2021
|  | Director of Congressional and Public Affairs | DC220006 | 10/07/2021
|  | Senior Advisor for Export Controls | DC220106 | 05/06/2022
|  | Special Assistant | DC220047 | 01/18/2022
| Bureau of the Census | Chief of Congressional Affairs | DC220009 | 11/05/2021
| Director General of the United States and Foreign Commercial Service and Assistant Secretary for Global Markets | Senior Advisor | DC210173 | 08/16/2021
| International Trade Administration | Director, Office of Legislative Affairs | DC210188 | 09/10/2021
|  | Press Secretary | DC220015 | 10/25/2021
|  | Scheduler and Special Assistant | DC220079 | 03/10/2022
|  | Senior Advisor | DC220071 | 02/15/2022
|  | Special Advisor | DC220131 | 06/17/2022
| Minority Business Development Agency | Special Assistant | DC210198 | 09/24/2021
|  | Senior Advisor (2) | DC220017 DC220052 | 10/22/2021 01/18/2022
| National Oceanic and Atmospheric Administration | Senior Advisor (2) | DC220049 DC220083 | 01/18/2022 02/25/2022
|  | Senior Advisor and Speechwriter | DC220058 | 01/27/2022
|  | Special Assistant | DC210123 | 11/05/2021
| National Telecommunications and Information Administration | Advisor for Intergovernmental Affairs | DC220080 | 04/08/2022
|  | Chief of Staff for National Telecommunications and Information Administration | DC210156 | 07/22/2021
|  | Deputy Director of Congressional Affairs | DC220134 | 06/17/2022
|  | Director of Congressional Affairs | DC220122 | 06/03/2022
|  | Director of Intergovernmental Affairs | DC220077 | 03/10/2022
|  | Director of Public Affairs | DC220110 | 05/06/2022
|  | Director of Public Engagement | DC220093 | 03/25/2022
|  | Project Management Specialist | DC220103 | 04/08/2022
|  | Public Engagement Advisor | DC220104 | 04/08/2022
|  | Senior Advisor (3) | DC220010 DC220098 DC220022 | 11/05/2021 03/28/2022 12/07/2021
|  | Special Advisor | DC220125 | 06/03/2022
|  | Special Policy Advisor | DC220061 | 01/27/2022
| Office of Advance, Scheduling and Protocol | Special Assistant Chief Protocol Officer and Senior Advisor Scheduler | DC210168 DC210181 DC220130 | 08/06/2021 08/26/2021 06/17/2022
| Office of Business Liaison | Director, of Faith Based and Neighborhood Partnerships | DC220092 | 03/25/2022
|  | Deputy Director, Office of Public Engagement | DC220116 | 05/20/2022
| Office of Executive Secretariat | Deputy Director (2) | DC220108 DC220014 | 05/06/2022 10/22/2021
|  | Special Assistant (3) | DC210167 DC220048 DC220121 | 08/05/2021 01/18/2022 06/03/2022
| Office of Legislative and Intergovernmental Affairs | Director of Legislative Affairs Special Assistant Director for Oversight | DC210202 DC220013 DC220008 | 09/24/2021 10/22/2021 11/05/2021
| Office of Policy and Strategic Planning | Policy Advisor | DC210159 | 07/06/2021
|  | Senior Policy Advisor | DC220007 | 11/05/2021
|  | Counselor to the Secretary | DC220085 | 03/28/2022
| Office of Public Affairs | Deputy Director of Public Affairs and Director of Speechwriting | DC220025 | 11/18/2021
|  | Deputy Director of Public Affairs and Press Secretary | DC220032 | 12/06/2021
|  | Deputy Press Secretary | DC210164 | 08/05/2021
|  | Deputy Speechwriter | DC220024 | 12/06/2021
|  | Press Assistant | DC220067 | 02/10/2022
| Office of the Assistant Secretary for Economic Development | Director of External Affairs | DC220100 | 04/08/2022
|  | Director of Strategic Partnerships | DC210203 | 09/29/2021
|  | Senior Advisor | DC210163 | 07/16/2021
|  | Special Assistant | DC220066 | 02/10/2022
|  | Special Policy Advisor to the Assistant Secretary | DC220088 | 03/14/2022
| Office of the Chief Financial Officer and Assistant Secretary for Administration | Chief of Staff to the Chief Financial Officer and Assistant Secretary for Administration | DC220076 | 03/10/2022
|  | Special Assistant | DC220084 | 03/25/2022
| Office of the Chief of Staff | Director of Scheduling and Advance | DC220038 | 12/16/2021
|  | Senior Advisor | DC220046 | 01/18/2022
| Office of the Deputy Secretary | Counselor to the Deputy Secretary | DC220050 | 01/18/2022
|  | Special Assistant | DC220096 | 03/25/2022
| Office of the General Counsel | Counsel (2) | DC210187 DC210194 | 09/09/2021 09/26/2021
|  | Special Assistant (2) | DC220002 DC220064 | 10/10/2021 02/10/2022
| Office of the Secretary | Special Assistant to the Secretary | DC220087 | 03/14/2022
| Office of the Under Secretary | Policy Advisor (2) | DC220089 DC220091 | 03/17/2022 03/18/2022
|  | Senior Advisor (2) | DC220023 DC210199 | 11/18/2021 09/24/2021
|  | Speechwriter and Policy Advisor | DC220040 | 01/03/2022
| Office of the White House Liaison | Special Assistant | DC220133 | 06/17/2022
|  | Deputy White House Liaison | DC220136 | 06/17/2022
FEDERAL PERMITTING IMPROVEMENT STEERING COUNCIL | Federal Permitting Improvement Steering Council | Associate Director for Public Engagement | FF220001 | 01/24/2022
COMMODITY FUTURES TRADING COMMISSION | Office of Public Affairs | Director | CT220001 | 12/09/2021
| Office of the Chairperson | Senior Advisor | CT220002 | 05/06/2022
CONSUMER FINANCIAL PROTECTION BUREAU | Consumer Financial Protection Bureau | Executive Secretary and Senior Advisor to the Director | FP210024 | 08/26/2021
| Office of the Director | Senior Advisor to the Director (Communications) | FP220005 | 06/27/2022
|  | Senior Advisor (Policy and Strategic Planning) | FP220006 | 06/27/2022
DEPARTMENT OF DEFENSE | Office of the Assistant Secretary of Defense (Legislative Affairs) | Special Assistant (8) | DD210261 DD210264 DD210269 DD220015 DD220021 DD220096 DD220153 DD220149 | 08/19/2021 09/08/2021 09/14/2021 11/15/2021 12/01/2021 02/16/2022 06/30/2022 06/15/2022
| Office of the Assistant Secretary of Defense (Readiness) | Special Assistant | DD220125 | 04/07/2022
| Office of the Assistant Secretary of Defense (Strategy, Plans and Capabilities) | Special Assistant (3) | DD220019 DD220084 DD220138 | 12/01/2021 02/02/2022 05/16/2022
| Office of the Assistant to the Secretary of Defense (Public Affairs) | Chief of Staff | DD220143 | 06/01/2022
|  | Director, Integrated Campaigns | DD220114 | 03/14/2022
|  | Research Assistant | DD220133 | 05/06/2022
|  | Senior Research Special Assistant | DD210271 | 09/28/2021
|  | Speechwriter | DD220097 | 02/24/2022
| Office of the Director (Cost Assessment and Program Evaluation) | Special Assistant | DD220017 | 11/17/2021
| Office of the Secretary of Defense | Advance Officer (3) | DD210246 DD210258 DD220128 | 07/06/2021 08/05/2021 04/19/2022
|  | Deputy White House Liaison (2) | DD220087 DD220148 | 02/25/2022 06/15/2022
|  | Protocol Officer | DD210267 | 09/09/2021
|  | Special Assistant | DD220150 | 06/17/2022
| Office of the Under Secretary of Defense (Acquisition and Sustainment) | Special Assistant | DD220077 | 01/26/2022
| Office of the Under Secretary of Defense (Comptroller) | Special Assistant (2) | DD210248 DD220089 | 07/29/2021 02/03/2022
| Office of the Under Secretary of Defense (Intelligence and Security) | Senior Intelligence Assistant | DD220092 | 02/08/2022
|  | Special Advisor | DD220142 | 06/01/2022
| Office of the Under Secretary of Defense (Personnel and Readiness) | Special Assistant (2) | DD210247 DD220036 | 07/20/2021 01/06/2022
| Office of the Under Secretary of Defense (Policy) | Director, Homeland Defense and Security | DD210259 | 08/06/2021
|  | Special Assistant (2) | DD210252 DD220098 | 07/29/2021 02/24/2022
| Office of the Under Secretary of Defense (Research and Engineering) | Special Assistant (2) | DD210245 DD210253 | 07/06/2021 08/04/2021
|  | Special Advisor | DD220027 | 12/02/2021
| Washington Headquarters Services | Defense Fellow (10) | DD220013 DD220011 DD220014 DD220016 DD220020 DD220024 DD220025 DD220033 DD220035 DD220134 | 11/11/2021 11/17/2021 11/17/2021 11/17/2021 12/01/2021 12/02/2021 12/15/2021 12/21/2021 01/18/2022 05/10/2022
|  | Senior Director for Strategic Planning | DD220152 | 06/23/2022
DEPARTMENT OF THE AIR FORCE | Office of Assistant Secretary Air Force for Financial Management and Comptroller | Special Assistant | DF220003 | 11/19/2021
| Office of Assistant Secretary Air Force for Acquisition | Special Assistant (2) | DF220006 DF220009 | 12/28/2021 03/02/2022
| Office of Assistant Secretary of the Air Force for Manpower and Reserve Affairs | Special Assistant | DF220014 | 06/02/2022
DEPARTMENT OF THE ARMY | Office Assistant Secretary Army (Acquisition, Logistics and Technology) | Special Assistant to the Assistant Secretary of the Army (Acquisition, Logistics and Technology) | DW210033 | 09/22/2021
| Office Assistant Secretary Army (Installations, Energy and Environment) | Special Assistant to the Assistant Secretary of the Army (Installation, Energy and Environment) | DW220017 | 01/07/2022
| Office Assistant Secretary Army (Manpower and Reserve Affairs) | Special Assistant to the Assistant Secretary of the Army (Manpower and Reserve Affairs) | DW220028 | 04/21/2022
| Office of the Secretary | Special Assistant to the Secretary of the Army for Diversity, Equity and Inclusion | DW210019 | 07/08/2021
|  | Confidential Assistant | DW210029 | 08/12/2021
DEPARTMENT OF THE NAVY | Office of the Assistant Secretary of Navy (Energy, Installations and Environment) | Senior Advisor to the Secretary of the Navy (Climate) | DN210025 | 07/19/2021
| Office of the Assistant Secretary of Navy (Manpower and Reserve Affairs) | Attorney-Advisor (General) | DN210024 | 07/22/2021
DEPARTMENT OF EDUCATION | Office for Civil Rights | Deputy Assistant Secretary for Legal Affairs | DB220002 | 11/11/2021
|  | Confidential Assistant | DB220011 | 01/06/2022
| Office of Career Technical and Adult Education | Confidential Assistant | DB210120 | 08/04/2021
|  | Deputy Assistant Secretary | DB220060 | 06/29/2022
|  | Senior Advisor | DB210140 | 10/18/2021
|  | Special Assistant | DB210132 | 09/01/2021
| Office of Communications and Outreach | Confidential Assistant | DB220037 | 03/04/2022
|  | Deputy Press Secretary | DB210143 | 10/18/2021
|  | Senior Advisor (2) | DB220017 DB220022 | 01/19/2022 02/02/2022
|  | Special Assistant (2) | DB210142 DB220021 | 09/28/2021 02/02/2022
|  | Traveling Digital Director | DB220051 | 05/04/2022
| Office of Elementary and Secondary Education | Confidential Assistant (2) | DB210115 DB220035 | 07/26/2021 03/10/2022
| Office of Legislation and Congressional Affairs | Confidential Assistant | DB210117 | 07/26/2021
|  | Deputy Assistant Secretary | DB210138 | 09/16/2021
|  | Special Assistant | DB210133 | 08/27/2021
| Office of Planning, Evaluation and Policy Development | Deputy Director, Office of Educational Technology | DB210139 | 09/16/2021
|  | Confidential Assistant | DB220016 | 01/06/2022
|  | Special Assistant (2) | DB220019 DB220020 | 01/27/2022 02/02/2022
|  | Senior Advisor | DB220028 | 02/02/2022
| Office of Postsecondary Education | Confidential Assistant (2) | DB210118 DB210122 | 07/26/2021 08/04/2021
|  | Special Assistant | DB210127 | 08/18/2021
| Office of the General Counsel | Senior Counsel | DB220036 | 03/04/2022
|  | Confidential Assistant | DB220047 | 04/26/2022
| Office of the Secretary | Chief of Staff | DB210134 | 09/08/2021
|  | Confidential Assistant (4) | DB210116 DB210121 DB220034 DB220040 | 07/31/2021 08/04/2021 02/14/2022 03/15/2022
|  | Deputy Director of Advance | DB210131 | 08/19/2021
|  | Director of Advance | DB210129 | 08/18/2021
|  | Director, Strategic Partnerships | DB220003 | 11/09/2021
|  | Director, White House Liaison | DB220033 | 02/09/2022
|  | Executive Director, White House Initiative on Advancing Educational Equity, Excellence, and Economic | DB220062 | 06/16/2022
|  | Senior Advisor (3) | DB210141 DB220027 DB220039 | 10/18/2021 02/14/2022 03/10/2022
|  | Special Assistant (2) | DB210119 DB220009 | 07/26/2021 12/16/2021
| Office of the Under Secretary | Advisor for Data Security (2) | DB210130 DB210135 | 08/16/2021 08/27/2021
|  | Confidential Assistant (2) | DB220015 DB220043 | 12/30/2021 04/06/2022
DEPARTMENT OF ENERGY | Office of the Assistant Secretary for Congressional and Intergovernmental Affairs | Deputy Assistant Secretary, Public Engagement | DE220036 | 04/14/2022
|  | Legislative Affairs Advisor (House) | DE220026 | 02/11/2022
|  | Legislative Affairs Advisor (Senate) | DE220083 | 06/10/2022
|  | Regional Intergovernmental and External Affairs for the Northeast | DE210189 | 09/20/2021
|  | Regional Intergovernmental and External Affairs for the Southwest | DE210182 | 09/20/2021
|  | Regional Intergovernmental and External Affairs Specialist | DE210186 DE210184 DE220001 | 09/20/2021 12/12/2021 01/03/2022
|  | Regional Intergovernmental and External Affairs Specialist for Appalachia | DE210183 | 09/20/2021
| Office of the Assistant Secretary for Energy Efficiency and Renewable Energy | Director of External Affairs | DE210169 | 08/02/2021
|  | Senior Advisor | DE220056 | 06/30/2022
| Office of the Assistant Secretary for Nuclear Energy | Special Assistant | DE210158 | 07/02/2021
|  | Chief of Staff | DE220051 | 04/14/2022
| Office of National Nuclear Security Administration | Director of Public Affairs | DE210175 | 08/11/2021
| Office of Economic Impact and Diversity | Special Assistant | DE210163 | 07/09/2021
|  | Special Advisor for Stakeholder Engagement | DE220028 | 02/18/2022
| Office of General Counsel | Attorney-Advisor (General) | DE220023 | 02/18/2022
| Office of Management | Director of Advance | DE220003 | 11/05/2021
|  | Director of Scheduling | DE210181 | 09/07/2021
|  | Special Assistant | DE210166 | 07/09/2021
|  | Special Assistant for Advance (2) | DE220034 DE220085 | 02/18/2022 06/10/2022
| Office of Manufacturing and Energy Supply Chains | Special Assistant | DE220078 | 05/05/2022
| Office of Policy | Chief of Staff | DE220005 | 11/05/2021
| Office of Public Affairs | Deputy Press Secretary (3) | DE210170 DE210157 DE210198 | 07/17/2021 08/16/2021 09/22/2021
|  | Digital Content Manager | DE210162 | 07/09/2021
|  | Special Assistant | DE210201 | 09/29/2021
|  | Writer-Editor Speechwriter | DE220080 | 05/11/2022
| Office of Science | Special Assistant | DE210188 | 09/29/2021
| Office of the Chief Financial Officer | Special Advisor | DE210173 | 08/04/2021
| Office of the Deputy Secretary | Chief of Staff | DE210161 | 07/02/2021
| Office of the Secretary | Deputy Chief of Staff | DE220042 | 04/04/2022
|  | Special Assistant (2) | DE220035 DE210155 | 02/18/2022 08/16/2021
| Office of the State and Community Energy Programs | Chief of Staff | DE220092 | 06/30/2022
| Office of the Under Secretary of Energy | Chief of Staff | DE220079 | 05/11/2022
ENVIRONMENTAL PROTECTION AGENCY | Office of Public Affairs | Deputy Associate Administrator for Public Affairs | EP210103 | 08/18/2021
|  | Senior Advisor for Digital Strategies and Content Development | EP220007 | 10/27/2021
|  | Writer-Editor (Speechwriter) | EP220025 | 01/20/2022
| Office of Public Engagement and Environmental Education | Senior Advisor for Environmental Education | EP220044 | 05/04/2022
|  | Public Engagement Specialist | EP220062 | 06/27/2022
| Office of the Administrator | Attorney-Advisor (General) | EP220039 | 03/11/2022
|  | Deputy White House Liaison (3) | EP210100 EP220043 EP220047 | 08/17/2021 04/26/2022 05/04/2022
|  | Scheduler | EP220037 | 03/08/2022
|  | White House Liaison | EP220049 | 05/16/2022
| Office of the Assistant Administrator for Mission Support | Deputy Assistant Administrator for Mission Support | EP210104 | 09/07/2021
| Office of the Assistant Administrator for Water | Senior Advisor for Technical Assistance and Community Outreach | EP220021 | 01/12/2022
|  | Senior Advisor for Implementation | EP220038 | 03/11/2022
| Office of the Associate Administrator for Congressional and Intergovernmental Relations | Deputy Associate Administrator for Congressional Affairs (House Relations) | EP210099 | 08/02/2021
|  | Special Advisor for Intergovernmental Affairs | EP220046 | 05/03/2022
|  | Special Assistant (2) | EP210097 EP220048 | 08/02/2021 05/06/2022
| Office of the Associate Administrator for Policy | Special Assistant | EP220056 | 06/07/2022
| Office of the Chief Financial Officer | Special Advisor for Implementation | EP220024 | 01/19/2022
| Region II—New York, New York | Special Advisor for Implementation | EP220055 | 06/07/2022
EQUAL EMPLOYMENT OPPORTUNITY COMMISSION | Equal Employment Opportunity Commission | Executive Staff Assistant | EE210011 | 07/27/2021
| Office of the Chair | Policy Analyst | EE210010 | 07/19/2021
|  | Writer-Editor (Speeches) | EE220001 | 10/15/2021
FEDERAL ENERGY REGULATORY COMMISSION | Office of the Commissioner | Economic Advisor | DR220001 | 12/21/2021
FEDERAL HOUSING FINANCE AGENCY | Office of Director | Director, Office of Congressional Affairs and Communication | HA210004 | 08/19/2021
FEDERAL MEDIATION AND CONCILIATION SERVICE | Office of the Director | Management and Program Analyst | FM210001 | 10/20/2021
FEDERAL TRADE COMMISSION | Office of the Chair | Confidential Assistant | FT220002 | 02/04/2022
GENERAL SERVICES ADMINISTRATION | Federal Acquisition Service | Program Director, Presidential Innovation Fellows | GS220011 | 01/27/2022
| Office of Congressional and Intergovernmental Affairs | Deputy Associate Administrator for Policy (3) | GS210044 GS220004 GS220005 | 08/30/2021 11/15/2021 11/18/2021
| Office of General Counsel | Counsel to the General Counsel | GS220001 | 10/10/2021
| Office of Strategic Communication | Deputy Associate Administrator for Media Affairs | GS210038 | 07/12/2021
|  | Speechwriter | GS210042 | 08/12/2021
|  | Director of Public Engagement | GS220010 | 01/31/2022
| Office of the Administrator | Director of Advance | GS210045 | 09/09/2021
|  | Executive Assistant | GS210037 | 07/12/2021
|  | Senior Advisor to the Administrator (Climate) | GS220015 | 06/30/2022
|  | Senior Advisor to the Administrator (State, Local, Tribal and Territorial) | GS210041 | 08/12/2021
|  | Special Assistant | GS220002 | 10/12/2021
DEPARTMENT OF HEALTH AND HUMAN SERVICES | Office of Administration for Children and Families | Director of Communications | DH210243 | 09/28/2021
|  | Senior Advisor (2) | DH210250 DH220010 | 10/01/2021 10/21/2021
|  | Senior Advisor for Early Childhood Development | DH220029 | 12/22/2021
|  | Special Assistant (2) | DH220022 DH220101 DH220122 | 11/15/2021 06/23/2022 06/30/2022
| Office of Administration for Community Living | Special Assistant | DH220005 | 10/15/2021
| Center for Medicaid and Chip Services | Policy Advisor (2) | DH210228 DH220078 | 08/11/2021 04/28/2022
| Center for Medicare | Policy Advisor | DH220077 | 04/28/2022
| Office for Civil Rights | Deputy Director, White House Initiative on Asian Americans, Native Hawaiians, and Pacific Islanders | DH220026 | 12/02/2021
|  | Senior Advisor | DH220067 | 04/07/2022
| Office of Global Affairs | Chief of Staff | DH210237 | 09/07/2021
| Office of Intergovernmental and External Affairs | Director, Center for Faith-Based and Neighborhood Partnerships | DH220021 | 11/15/2021
|  | External Affairs Specialist | DH220041 | 02/03/2022
|  | Regional Director Philadelphia Region III | DH220072 | 04/13/2022
|  | Regional Director, Atlanta, Georgia, Region IV | DH220052 | 03/24/2022
|  | Regional Director, Boston, Massachusetts, Region I | DH220119 | 06/30/2022
|  | Regional Director, Chicago, Illinois-Region V | DH220058 | 04/04/2022
|  | Regional Director, Dallas, Texas, Region VI | DH220004 | 10/26/2021
|  | Regional Director, Denver, Colorado, Region VIII | DH210233 | 09/08/2021
|  | Regional Director, Kansas City, Missouri, Region VII | DH220083 | 05/03/2022
|  | Regional Director, New York, New York, Region II | DH220016 | 11/15/2021
|  | Regional Director, San Francisco, California, Region IX | DH220012 | 11/01/2021
|  | Regional Director, Seattle, Washington, Region X | DH220011 | 11/10/2021
|  | Special Assistant (2) | DH210227 DH220003 | 07/29/2021 10/15/2021
| Office of Refugee Resettlement/Office of the Director | Special Assistant | DH220043 | 02/09/2022
|  | Chief of Staff | DH220049 | 03/01/2022
| Office of the Assistant Secretary for Administration | Senior Advisor for Strategic Initiatives | DH220017 | 11/15/2021
| Office of the Assistant Secretary for Health | Director of Communications | DH220046 | 02/25/2022
| Office of the Assistant Secretary for Legislation | Chief of Staff | DH220050 | 03/16/2022
|  | Senior Advisor, Oversight | DH220094 | 05/31/2022
|  | Special Assistant (2) | DH210251 DH220121 | 09/28/2021 06/30/2022
| Office of the Assistant Secretary for Preparedness and Response | Senior Advisor | DH210212 | 07/13/2021
|  | Advisor | DH220045 | 02/11/2022
| Office of the Assistant Secretary for Public Affairs | Advisor, Public Education Campaign | DH220079 | 04/28/2022
|  | Online Communications Director | DH220044 | 02/09/2022
|  | Press Assistant | DH220006 | 10/19/2021
|  | Press Secretary (4) | DH220034 DH220036 DH220080 DH210252 | 01/10/2022 01/21/2022 04/28/2022 09/29/2021
|  | Special Assistant | DH220007 | 10/20/2021
| Office of the Deputy Secretary | Special Assistant (2) | DH210226 DH220030 | 07/29/2021 12/13/2021
|  | Senior Advisor | DH220087 | 05/12/2022
| Office of the Secretary | Advance Representative | DH220059 | 03/24/2022
|  | Policy Advisor (2) | DH210239 DH220038 | 09/07/2021 01/26/2022
|  | Scheduler (2) | DH210222 DH220092 | 07/22/2021 05/23/2022
|  | Senior Advisor, Boards and Commissions | DH220068 | 04/07/2022
|  | Special Assistant (2) | DH210244 DH220099 | 10/06/2021 06/01/2022
|  | Special Assistant and Briefing Book Coordinator | DH220066 | 04/04/2022
DEPARTMENT OF HOMELAND SECURITY | Cybersecurity and Infrastructure Security Agency | Special Assistant Senior Advisor | DM210377 DM220031 | 09/14/2021 12/23/2021
| Federal Emergency Management Agency | Counselor to the Administrator | DM220090 | 03/01/2022
|  | Deputy Director of Public Affairs | DM220129 | 04/14/2022
|  | Director of Intergovernmental Affairs | DM220205 | 06/17/2022
|  | Director of Legislative Affairs | DM210402 | 07/21/2021
|  | Director of Public Affairs | DM210397 | 07/02/2021
|  | Director, Center for Faith-Based and Neighborhood Partnerships | DM210404 | 07/21/2021
|  | Special Assistant | DM220091 | 02/16/2022
| Office of Management Directorate | Advisor | DM210407 | 07/26/2021
| Office for Civil Rights and Civil Liberties | Special Assistant | DM210422 | 08/17/2021
|  | Senior Advisor | DM220032 | 12/02/2021
|  | Chief of Staff | DM220135 | 04/27/2022
Office of Legislative Affairs | Advisor for Strategic Engagement | DM220190 | 05/31/2022
|  | Associate Director | DM220098 | 02/25/2022
|  | Chief of Staff (2) | DM210399 DM220097 | 07/12/2021 02/25/2022
|  | Director of Legislative Affairs (2) | DM220156 DM220188 | 05/19/2022 06/14/2022
| Office of Partnership and Engagement | Executive Director, Homeland Security Advisory Council | DM220198 | 06/23/2022
|  | Intergovernmental Affairs Coordinator | DM210435 | 08/24/2021
|  | Partnership and Engagement Specialist (2) | DM220084 DM220083 | 02/03/2022 02/08/2022
|  | Special Assistant | DM220013 | 10/27/2021
| Office of Public Affairs | Press Assistant Researcher | DM220094 DM220160 | 02/16/2022 05/02/2022
| Office of Strategy, Policy, and Plans | Counselor to the Under Secretary | DM210468 | 09/21/2021
|  | Executive Director for the Department of Homeland Security Disinformation Governance Board | DM220087 | 02/17/2022
|  | Managing Director for Strategy Office of Cyber, Infrastructure, Risk, and Resilience | DM220015 | 11/26/2021
|  | Policy Advisor (2) | DM210471 DM220179 | 09/30/2021 05/19/2022
|  | Senior Counselor to the Under Secretary | DM210472 | 09/28/2021
|  | Special Advisor | DM210460 | 09/16/2021
|  | Special Assistant | DM220089 | 03/23/2022
| Office of the General Counsel | Oversight Counsel (2) | DM220039 DM220138 | 12/07/2021 04/26/2022
| Office of the Secretary | Deputy White House Liaison (2) | DM220014 DM220142 | 10/24/2021 04/20/2022
|  | Special Assistant | DM220150 | 05/20/2022
|  | Special Assistant to the Deputy Secretary | DM210467 | 09/21/2021
|  | Special Assistant, White House Liaison | DM220189 | 05/16/2022
| Privacy Office | Special Assistant | DM220070 | 01/12/2022
|  | Senior Advisor | DM220174 | 06/08/2022
| Transportation Security Administration | Senior Counselor | DM210398 | 07/23/2021
|  | Special Assistant | DM220145 | 04/25/2022
|  | Speechwriter | DM220182 | 05/19/2022
| United States Citizenship and Immigration Services | Deputy Chief of Staff | DM220075 | 02/08/2022
|  | Senior Advisor (2) | DM220064 DM220184 | 02/02/2022 05/31/2022
|  | Special Assistant to the Director | DM220063 | 02/01/2022
| United States Customs and Border Protection | Special Assistant | DM210455 | 09/14/2021
|  | Senior Advisor for Strategic Communication | DM210465 | 09/21/2021
|  | Advisor to the Commissioner | DM210477 | 10/20/2021
|  | Special Assistant (2) | DM220099 DM220128 | 02/15/2022 05/05/2022
| Office of the United States Immigration and Customs Enforcement | Legislative Correspondent | DM210409 | 08/17/2021
|  | Counselor to the Director | DM220131 | 04/28/2022
DEPARTMENT OF HOUSING AND URBAN DEVELOPMENT | Government National Mortgage Association | Senior Advisor (2) | DU220026 DU220049 | 02/05/2022 06/17/2022
| Office of Community Planning and Development | Policy Advisor | DU220050 | 06/30/2022
|  | Senior Advisor | DU220004 | 10/12/2021
|  | Senior Advisor for Disaster Recovery | DU220047 | 06/17/2022
|  | Special Assistant to the Assistant Secretary | DU220035 | 03/22/2022
| Office of Congressional and Intergovernmental Relations | Special Assistant | DU210105 | 09/16/2021
|  | Deputy Assistant Secretary for Intergovernmental Relations | DU220005 | 10/21/2021
|  | Senior Advisor | DU220015 | 12/08/2021
| Office of Fair Housing and Equal Opportunity | Special Assistant | DU210103 | 09/08/2021
| Office of Field Policy and Management | Regional Administrator (5) | DU220009 DU220008 DU220011 DU220010 DU220012 | 11/16/2021 11/22/2021 11/24/2021 12/07/2021 12/07/2021
|  | Regional Administrator (Region I) (2) | DU220028 DU220025 | 02/09/2022 02/14/2022
|  | Regional Administrator Region VII | DU220001 | 10/26/2021
|  | Regional Administrator Region VIII | DU220002 | 10/26/2021
|  | Regional Administrator Region IV | DU220003 | 12/08/2021
|  | Senior Advisor (2) | DU220006 DU220039 | 11/17/2021 04/22/2022
| Office of Housing | Senior Advisor | DU210089 | 07/09/2021
| Office of Policy Development and Research | Special Assistant | DU210088 | 07/15/2021
|  | Special Policy Advisor | DU210099 | 08/26/2021
| Office of Public Affairs | Assistant Press Secretary (2) | DU210095 DU210101 | 08/16/2021 09/02/2021
|  | Deputy Press Secretary | DU210087 | 07/09/2021
|  | Digital Strategist | DU210104 | 09/08/2021
|  | Director of Speechwriting | DU220034 | 03/17/2022
|  | Senior Press Secretary | DU220033 | 03/01/2022
| Office of the Administration | Advance Coordinator (2) | DU210094 DU210096 | 08/18/2021 08/18/2021
|  | Special Assistant | DU220045 | 06/17/2022
| Office of the Chief Information Officer | Special Assistant | DU220017 | 01/05/2022
| Office of the Deputy Secretary | Policy Advisor—Special Advisor | DU220020 DU220032 | 01/13/2022 02/28/2022
| Office of the General Counsel | Senior Counsel | DU220007 | 11/24/2021
| Office of the Secretary | Director of Domestic Violence | DU210090 | 07/22/2021
|  | Senior Advisor (2) | DU210097 DU220014 | 08/16/2021 12/06/2021
|  | Senior Advisor—Puerto Rico | DU210091 | 07/09/2021
|  | Senior Advisor for Disaster Recovery | DU220029 | 02/14/2022
|  | Special Assistant for Budget Policy and Programs | DU220027 | 02/16/2022
DEPARTMENT OF THE INTERIOR | Office of the Assistant Secretary—Fish and Wildlife and Parks | Senior Advisor | DI220063 | 04/26/2022
| Office of the Assistant Secretary—Indian Affairs | Special Assistant | DI210138 | 09/14/2021
|  | Senior Advisor to the Assistant Secretary—Indian Affairs | DI220052 | 03/24/2022
| Office of the Assistant Secretary—Water and Science | Special Assistant to the Assistant Secretary—Water and Science | DI210126 | 07/01/2021
| Office of the Solicitor | Advisor to the Solicitor (2) | DI220045 DI220058 | 02/25/2022 04/20/2022
| Secretary's Immediate Office | Advance Representative | DI220001 | 11/02/2021
|  | Advisor | DI210137 | 08/18/2021
|  | Advisor to the Director of Intergovernmental and External Affairs | DI210131 | 08/06/2021
|  | Advisor, Office of Congressional and Legislative Affairs | DI220038 | 01/31/2022
|  | Alaska Coordinator | DI220056 | 03/24/2022
|  | Deputy Communications Director | DI220057 | 03/25/2022
|  | Deputy White House Liaison | DI210124 | 07/01/2021
|  | Director, Office of Scheduling and Advance | DI210142 | 10/04/2021
|  | Scheduler | DI220013 | 01/07/2022
|  | Senior Advance Representative | DI210136 | 08/19/2021
|  | Senior Advisor | DI220007 | 11/22/2021
|  | Senior Communications Advisor for Infrastructure | DI220059 | 04/19/2022
DEPARTMENT OF JUSTICE | Office of Antitrust Division | Chief of Staff and Senior Counsel | DJ220077 | 05/16/2022
|  | Counsel | DJ220087 | 06/02/2022
|  | Senior Counsel | DJ220069 | 04/21/2022
| Office of Civil Division | Counsel (2) | DJ210166 DJ210169 | 09/01/2021 09/08/2021
| Office of Civil Rights Division | Chief of Staff and Senior Counsel | DJ210170 | 09/01/2021
|  | Counsel (2) | DJ210154 DJ220052 | 07/30/2021 03/23/2022
|  | Senior Counsel | DJ220046 | 03/23/2022
|  | Special Assistant | DJ210104 | 07/02/2021
| Community Relations Service | Senior Counsel | DJ210181 | 10/07/2021
| Office of Environment and Natural Resources Division | Chief of Staff and Senior Counsel | DJ220019 | 11/30/2021
| Office of Justice Programs | Senior Policy Advisor (2) | DJ220013 DJ220018 | 11/19/2021 11/30/2021
| Office of Legal Counsel | Counsel | DJ210157 | 07/28/2021
|  | Senior Counselor | DJ220053 | 03/23/2022
| Office of Legal Policy | Senior Counsel (2) | DJ210165 DJ210102 | 09/01/2021 04/13/2022
|  | Counsel | DJ220084 | 06/02/2022
| Office of Legislative Affairs | Counsel | DJ210179 | 10/07/2021
|  | Senior Counsel (2) | DJ220001 DJ220083 | 10/07/2021 05/20/2022
| Office of Public Affairs | Press Assistant | DJ210151 | 07/15/2021
|  | Chief Speechwriter | DJ220006 | 10/26/2021
|  | Senior Communications Advisor | DJ220023 | 01/12/2022
|  | Deputy Speechwriter | DJ220055 | 04/21/2022
| Office of the Associate Attorney General | Deputy Associate Attorney General | DJ210176 | 09/15/2021
|  | Counsel | DJ210174 | 09/16/2021
| Office of the Attorney General | Special Assistant | DJ210167 | 09/08/2021
| Office of the Deputy Attorney General | Confidential Assistant | DJ210149 | 07/28/2021
|  | Counsel (2) | DJ210150 DJ210103 | 07/16/2021 04/13/2022
|  | Senior Counselor | DJ210177 | 09/15/2021
| Office of Violence Against Women | Policy Advisor | DJ210178 | 10/07/2021
DEPARTMENT OF LABOR | Bureau of International Labor Affairs | Special Assistant | DL210124 | 09/30/2021
| Office of Employment and Training Administration | Policy Advisor | DL220012 | 12/21/2021
|  | Senior Policy Advisor (2) | DL220008 DL220038 | 12/21/2021 03/10/2022
| Mine Safety and Health Administration | Senior Advisor | DL210112 | 08/12/2021
| Occupational Safety and Health Administration | Senior Policy Advisor (2) | DL210108 DL220001 | 08/20/2021 10/27/2021
| Office of Congressional and Intergovernmental Affairs | Senior Legislative Officer | DL210107 | 07/08/2021
|  | Legislative Officer (2) | DL220009 DL220020 | 11/22/2021 12/22/2021
|  | Tribal Liaison | DL220030 | 03/10/2022
| Office of Disability Employment Policy | Chief of Staff | DL220043 | 04/13/2022
| Office of Federal Contract Compliance Programs | Senior Advisor | DL220004 | 11/22/2021
| Office of Public Affairs | Special Assistant | DL210111 | 08/23/2021
|  | Deputy Speechwriter | DL220002 | 10/28/2021
| Office of the Assistant Secretary for Administration and Management | Chief of Staff | DL220029 | 02/25/2022
| Office of the Assistant Secretary for Policy | Policy Advisor (2) | DL210103 DL210109 | 07/07/2021 08/07/2021
|  | Good Jobs Initiative Policy Advisor | DL220044 | 04/13/2022
|  | Deputy Director of the Good Jobs Initiative and Senior Policy Advisor | DL220050 | 05/18/2022
| Office of the Deputy Secretary | Senior Advisor | DL220005 | 10/28/2021
| Office of the Secretary | Advance Associate (2) | DL210113 DL210115 | 08/12/2021 08/27/2021
|  | Deputy Advisor for Private Sector Engagement | DL220063 | 06/08/2022
|  | Deputy Advisor for Worker Voice Engagement | DL220062 | 06/03/2022
|  | Deputy White House Liaison | DL220039 | 03/23/2022
|  | Policy Advisor | DL220037 | 03/23/2022
|  | Scheduler | DL210120 | 09/30/2021
|  | Senior Advisor for Private Sector Engagement (2) | DL220048 DL220049 | 05/18/2022 05/18/2022
|  | Travelling Special Assistant | DL220010 | 11/09/2021
|  | White House Liaison | DL220032 | 03/10/2022
| Office of the Solicitor | Counsel | DL220003 | 10/19/2021
|  | Senior Counsel | DL220022 | 01/18/2022
| Office of Workers Compensation Programs | Policy Advisor | DL220047 | 05/09/2022
| Office of Veterans Employment and Training Service | Special Advisor (2) | DL210116 DL220061 | 09/22/2021 06/03/2022
|  | Special Assistant | DL210125 | 10/06/2021
| Office of Wage and Hour Division | Policy Advisor (2) | DL210102 DL210106 | 07/07/2021 07/22/2021
|  | Senior Policy Advisor | DL220023 | 01/19/2022
| Office of Women's Bureau | Senior Advisor (2) | DL210104 DL220036 | 07/08/2021 03/16/2022
MERIT SYSTEMS PROTECTION BOARD | Office of the Board, Vice Chairman | Confidential Assistant to the Vice Chairman | MP220002 | 06/01/2022
| Office of the Board, Chairman | Confidential Assistant to the Chairman | MP220003 | 06/15/2022
NATIONAL AERONAUTICS AND SPACE ADMINISTRATION | Office of Communications | Press Assistant | NN220034 | 06/03/2022
|  | Senior Advisor for Strategic Communications | NN210073 | 10/07/2021
|  | Special Assistant | NN210066 | 08/30/2021
|  | Speechwriter | NN210050 | 07/12/2021
| Office of Legislative and Intergovernmental Affairs | Special Assistant for Legislative and Intergovernmental Affairs | NN210049 | 07/12/2021
| Office of the Administrator | Executive Assistant and Advisor | NN220027 | 05/26/2022
|  | Special Assistant for Engagement | NN210059 | 08/02/2021
|  | Special Assistant for Operations | NN210060 | 08/11/2021
|  | White House Liaison | NN220004 | 11/10/2021
NATIONAL CREDIT UNION ADMINISTRATION | Office of the Chairman | Director, Office of External Affairs and Communications | CU220001 | 01/21/2022
| Office of the Board | Special Assistant and Advisor | CU220002 | 03/27/2022
NATIONAL ENDOWMENT FOR THE ARTS | National Endowment for the Arts | Special Assistant to the Chair | NA220001 | 02/22/2022
NATIONAL ENDOWMENT FOR THE HUMANITIES | National Endowment for the Humanities | Director of Congressional Affairs | NH210006 | 09/20/2021
|  | White House Liaison and Senior Advisor to the Chief of Staff | NH210008 | 09/20/2021
NATIONAL LABOR RELATIONS BOARD | Office of the Board Members | Congressional Liaison Specialist | NL210012 | 09/20/2021
|  | Communications Specialist | NL220012 | 06/08/2022
NATIONAL TRANSPORTATION SAFETY BOARD | Office of Board Members | Confidential Assistant | TB220004 | 03/18/2022
|  | Senior Advisor (2) | TB220002 TB220001 | 01/03/2022 12/09/2021
|  | Senior Counsel | TB210002 | 09/13/2021
OFFICE OF MANAGEMENT AND BUDGET | Office of Communications | Deputy Associate Director for Communications | BO220003 | 10/25/2021
|  | Press Assistant | BO220009 | 03/23/2022
| Office of the General Counsel | Associate Deputy General Counsel | BO210078 | 09/01/2021
| Office of Legislative Affairs | Deputy to the Associate Director | BO220012 | 03/31/2022
| Natural Resource Programs | Confidential Assistant | BO220004 | 12/17/2021
| Office of E-Government and Information Technology | Confidential Assistant | BO220007 | 03/07/2022
|  | Senior Advisor for Delivery (United States Digital Service) (3) | BO210079 BO210080 BO220005 | 09/20/2021 09/24/2021 01/24/2022
|  | Senior Advisor for Technology and Delivery (United States Digital Service) | BO210081 | 10/01/2021
| Office of Information and Regulatory Affairs | Counselor (2) | BO210083 BO220006 | 10/01/2021 03/07/2022
| Office of the Director | Confidential Assistant | BO220010 | 03/17/2022
OFFICE OF NATIONAL DRUG CONTROL POLICY | Office of State, Local and Tribal Affairs | Policy Analyst (2) | QQ220002 QQ220003 | 03/05/2022 03/15/2022
OFFICE OF PERSONNEL MANAGEMENT | Congressional, Legislative, and Intergovernmental Affairs | Senior Advisor (2) | PM210065 PM220014 | 07/01/2021 01/12/2022
|  | Deputy Director | PM220024 | 04/05/2022
| Human Resource Solutions | Chief of Staff | PM220008 | 01/20/2022
| Office of Communications | Chief Speechwriter and Senior Advisor for Communications | PM210067 | 07/16/2021
|  | Special Assistant | PM220022 | 03/09/2022
|  | Press Secretary | PM220037 | 05/13/2022
| Office of the Chief Information Officer | Special Assistant | PM210075 | 09/13/2021
| Office of the Director | Confidential Assistant | PM220011 | 01/27/2022
|  | Senior Advisor for Appointee Leadership Development | PM210072 | 09/27/2021
|  | Senior Advisor for Leadership Development and Equity | PM220019 | 02/25/2022
|  | Senior Advisor for Strategic Initiatives | PM220012 | 01/31/2022
| Office of the General Counsel | Special Counsel and Senior Advisor | PM220017 | 02/10/2022
| Presidents Commission on White House Fellowships | Special Assistant | PM210063 | 07/16/2021
|  | Associate Director | PM210066 | 07/19/2021
|  | Deputy Director | PM210069 | 07/23/2021
OFFICE OF SCIENCE AND TECHNOLOGY POLICY | Office of Science and Technology Policy | Special Assistant (2) | TS210006 TS210007 | 07/08/2021 07/08/2021
|  | Special Advisor for Directors Initiatives | TS210008 | 09/17/2021
|  | Director for Legislative Affairs | TS220004 | 04/27/2022
OFFICE OF THE UNITED STATES TRADE REPRESENTATIVE | Office of Congressional Affairs | Director for Congressional Affairs | TN210018 | 09/28/2021
| Office of Public and Media Affairs | Deputy Assistant United States Trade Representative for Digital | TN220009 | 06/17/2022
UNITED STATES INTERNATIONAL DEVELOPMENT FINANCE CORPORATION | Overseas Private Investment Corporation | Special Assistant (2) | PQ220001 PQ220002 | 11/24/2021 11/30/2021
|  | Advisor | PQ220004 | 06/17/2022
SECURITIES AND EXCHANGE COMMISSION | Office of Commissioner Crenshaw | Confidential Assistant | SE210029 | 08/26/2021
| Office of Commissioner Peirce | Confidential Assistant | SE210010 | 07/21/2021
| Office of General Counsel | General Counsel | SE220002 | 10/29/2021
| Office of Legislative and Intergovernmental Affairs | Legislative Affairs Specialist (2) | SE210025 SE220006 SE220009 | 07/21/2021 01/27/2022 03/24/2022
| Office of Public Affairs | Communications Specialist | SE210024 | 07/21/2021
|  | Writer-Editor (2) | SE220007 SE220008 | 02/10/2022 02/17/2022
| Office of the Chairman | Program Specialist | SE220010 | 05/20/2022
|  | Senior Advisor (2) | SE210030 SE220005 | 10/19/2021 03/04/2022
|  | Senior Officer | SE210023 | 07/21/2021
SMALL BUSINESS ADMINISTRATION | Office of Capital Access | Deputy Associate Administrator for Capital Access (2) | SB210049 SB210051 | 07/22/2021 07/29/2021
|  | Special Advisor | SB210052 | 08/04/2021
| Office of Communications and Public Liaison | Press Secretary | SB210045 | 07/09/2021
|  | Director of Digital Communications | SB220028 | 05/05/2022
| Office of Disaster Assistance | Senior Advisor | SB220010 | 12/08/2021
| Office of Entrepreneurial Development | Senior Advisor | SB210047 | 07/16/2021
|  | Assistant Administrator for Native American Affairs | SB220004 | 10/24/2021
| Office of Field Operations | Regional Administrator, Region V | SB220018 | 01/14/2022
|  | Regional Administrator, Region VII | SB220019 | 01/14/2022
|  | Regional Administrator, Region I | SB220005 | 10/29/2021
|  | Regional Administrator, Region II | SB220001 | 10/29/2021
|  | Regional Administrator, Region III | SB210054 | 10/29/2021
|  | Regional Administrator, Region IV | SB220008 | 10/29/2021
|  | Regional Administrator, Region IX (2) | SB220003 SB220015 | 10/29/2021 12/28/2021
|  | Regional Administrator, Region VI | SB220011 | 12/08/2021
|  | Regional Administrator, Region VIII | SB220025 | 03/31/2022
|  | Regional Administrator, Region X, Seattle, Washington | SB220002 | 10/29/2021
| Office of the Administrator | Confidential Assistant | SB220031 | 06/21/2022
|  | Counselor to the Administrator | SB210050 | 07/23/2021
|  | Director of Advance | SB220007 | 10/29/2021
|  | Senior Advisor | SB220023 | 03/10/2022
|  | Special Assistant | SB220030 | 05/17/2022
|  | White House Liaison | SB220027 | 03/31/2022
SOCIAL SECURITY ADMINISTRATION | Office of the Commissioner | Senior Advisor (2) | SZ220003 SZ220004 | 03/16/2022 04/08/2022
| Office of Communications | Senior Advisor | SZ220008 | 05/05/2022
DEPARTMENT OF STATE | Bureau of Counterterrorism | Deputy Coordinator | DS220031 | 04/05/2022
| Bureau of Economic and Business Affairs | Senior Advisor | DS210269 | 08/19/2021
| Bureau of Educational and Cultural Affairs | Special Assistant | DS210254 | 07/01/2021
|  | Senior Advisor | DS210261 | 07/31/2021
|  | Deputy Assistant Secretary | DS210250 | 08/04/2021
| Bureau of Global Public Affairs | Deputy Assistant Secretary | DS210274 | 08/26/2021
|  | Senior Advisor | DS220013 | 01/04/2022
|  | Principal Deputy Spokesperson | DS220049 | 06/03/2022
| Bureau of Legislative Affairs | Staff Assistant | DS210276 | 09/10/2021
|  | Senior Advisor (Nominations) | DS220037 | 05/06/2022
|  | Senior (Congressional) Advisor | DS220050 | 06/08/2022
| Bureau of Oceans and International Environmental and Scientific Affairs | Senior Advisor | DS210277 | 09/10/2021
|  | Special Advisor | DS210289 | 09/24/2021
| Bureau of Overseas Buildings Operations | Supervisory Museum Curator (Arts) | DS220032 | 04/05/2022
| Bureau of Population, Refugees and Migration | Senior Advisor | DS220046 | 05/20/2022
| Office of Global Food Security | Special Envoy for Global Food Security | DS220030 | 04/05/2022
| Office of Global Women's Issues | Staff Assistant | DS210260 | 07/31/2021
| Office of Policy Planning | Senior Advisor (3) | DS210278 DS210281 DS220016 | 09/15/2021 09/15/2021 01/28/2022
|  | Special Advisor | DS210280 | 09/14/2021
|  | Special Advisor (Speechwriter) | DS210288 | 09/22/2021
|  | Special Assistant (Speechwriter) | DS210285 | 09/23/2021
| Office of the Assistant Secretary Bureau of Democracy Human Rights and Labor | Senior Advisor | DS220029 | 03/25/2022
| Office of the Chief of Protocol | Assistant Chief of Protocol (Visits) | DS210263 | 08/11/2021
|  | Assistant Manager | DS210282 | 09/22/2021
|  | Protocol Officer (Ceremonials) | DS220009 | 12/06/2021
|  | Protocol Officer (Diplomatic Partnerships) | DS210287 | 09/22/2021
|  | Senior Protocol Officer (Gifts) | DS210252 | 07/01/2021
|  | Senior Protocol Officer (Major Events) | DS210253 | 07/01/2021
|  | Senior Protocol Officer (Visits) | DS220015 | 01/04/2022
| Office of the Counselor | Senior Advisor | DS210279 | 09/14/2021
| Office of the Secretary | Senior Special Assistant | DS210242 | 07/19/2021
|  | Chief of Staff | DS210258 | 07/29/2021
|  | Staff Assistant | DS220045 | 05/20/2022
| Office of the United States Global Aids Coordinator | Senior Advisor | DS210259 | 07/29/2021
| Office of the Under Secretary for Arms Control and International Security Affairs | Senior Advisor | DS220019 | 02/11/2022
| Office of the Under Secretary for Civilian Security, Democracy, and Human Rights | Senior Advisor (2) | DS210257 DS210270 | 07/09/2021 08/20/2021
|  | Deputy Special Envoy to Monitor and Combat Anti-Semitism | DS220006 | 11/16/2021
| Office of the Under Secretary for Economic Growth, Energy, and the Environment | Senior Advisor (2) | DS210262 DS220008 | 08/06/2021 12/06/2021
|  | Special Representative | DS220020 | 02/11/2022
| Office of the Under Secretary for Political Affairs | Senior Advisor (Speechwriter) | DS220047 | 06/03/2022
| Office of the Under Secretary for Public Diplomacy and Public Affairs | Senior Advisor (2) | DS210265 DS220002 | 08/11/2021 10/06/2021
TRADE AND DEVELOPMENT AGENCY | Office of the Director | Director of Public Engagement | TD210003 | 10/10/2021
|  | Congressional Affairs Director | TD220005 | 04/14/2022
DEPARTMENT OF TRANSPORTATION | Office of the Assistant Secretary for Administration | Disability Policy Advisor | DT210107 | 09/20/2021
| Office of the Assistant Secretary for Governmental Affairs | Deputy Assistant Secretary for Congressional Affairs (Senate) | DT220031 | 02/22/2022
|  | Principal Deputy Assistant Secretary for Congressional Affairs (Senate) | DT220074 | 04/26/2022
|  | Advisor for Governmental Affairs | DT220091 | 06/17/2022
|  | Associate Director for Governmental Affairs | DT220092 | 06/17/2022
| Office of the Assistant Secretary for Research and Technology | Senior Advisor for Research and Technology | DT210087 | 07/12/2021
| Office of the Assistant Secretary for Transportation Policy | Labor Policy Advisor Deputy Director of Public Engagement | DT220010 DT220014 | 11/29/2021 12/17/2021
|  | Policy Advisor | DT220016 | 12/16/2021
|  | Special Assistant for Policy | DT220024 | 01/14/2022
|  | Special Assistant for Public Engagement | DT220083 | 05/19/2022
|  | Special Assistant for Transportation Policy and Implementation | DT220022 | 01/27/2022
|  | Strategic Advisor for Technical Assistance and Community Solutions | DT220065 | 04/19/2022
| Office of the Executive Secretariat | Engagement Program Manager | DT220003 | 10/29/2021
| Federal Railroad Administration | Director of Communications | DT210106 | 09/20/2021
| Federal Transit Administration | Senior Advisor (2) | DT210101 DT220082 | 08/19/2021 05/19/2022
| Immediate Office of the Administrator | Senior Advisor | DT220015 | 12/16/2021
| National Highway Traffic Safety Administration | Director of Governmental and External Affairs | DT220001 | 10/29/2021
| Office of Civil Rights | Special Assistant | DT210110 | 09/28/2021
| Office of Public Affairs | Digital Director | DT210105 | 09/20/2021
|  | Deputy Press Secretary | DT220029 | 02/11/2022
|  | Director of Public Affairs | DT220081 | 05/16/2022
| Office of the Deputy Secretary | Counselor to the Deputy Secretary | DT210108 | 09/28/2021
|  | Chief of Staff to the Deputy Secretary | DT220028 | 02/11/2022
|  | Advisor to the Deputy Secretary | DT220070 | 04/13/2022
| Office of the General Counsel | Special Counsel | DT220069 | 04/12/2022
| Office of the Under Secretary of Transportation for Policy | Associate Director of Bipartisan Infrastructure Law Implementation | DT220048 | 03/08/2022
|  | Supply Chain Advisor | DT220079 | 05/16/2022
| Office of the Secretary | Director of Scheduling | DT220080 | 05/16/2022
|  | Special Assistant for Advance | DT220067 | 04/07/2022
|  | Special Assistant for Scheduling and Advance | DT220025 | 01/27/2022
|  | Special Projects Manager | DT220090 | 06/17/2022
DEPARTMENT OF THE TREASURY | Office of the Assistant Secretary (Public Affairs) | Press Assistant (2) | DY210089 DY210123 | 07/14/2021 09/30/2021
|  | Senior Advisor (2) | DY220128 DY210087 | 06/24/2022 07/19/2021
|  | Spokesperson (2) | DY210112 DY210124 | 07/15/2021 09/10/2021
| Office of the Assistant Secretary for Terrorist Financing | Special Assistant | DY220006 | 11/18/2021
| Comptroller of the Currency | Deputy Chief of Staff | DY220007 | 12/02/2021
| Department of the Treasury | Special Advisor | DY220073 | 03/17/2022
| Office of the General Counsel | Policy Advisor (2) | DY210111 DY220096 | 07/12/2021 04/12/2022
| Secretary of the Treasury | Counselor to the Secretary | DY210128 | 12/27/2021
|  | Deputy Executive Secretary | DY210110 | 07/15/2021
|  | Scheduling and Advance Associate | DY220051 | 01/28/2022
|  | Senior Advisor (2) | DY210091 DY220071 | 07/19/2021 03/17/2022
|  | Senior Advisor for Technology and Delivery | DY210099 | 07/14/2021
|  | Special Advisor | DY220101 | 04/20/2022
|  | Special Assistant (3) | DY210119 DY220095 DY220097 | 09/09/2021 04/12/2022 04/12/2022
| Office of the Under Secretary for Domestic Finance | Senior Advisor | DY210129 | 09/30/2021
|  | Special Assistant | DY220011 | 12/08/2021
| Office of the Under Secretary for Terrorism and Financial Intelligence | Senior Advisor | DY220004 | 10/25/2021
DEPARTMENT OF VETERANS AFFAIRS | Office of the Assistant Secretary for Congressional and Legislative Affairs | Advisor for Congressional and Legislative Affairs | DV220033 | 05/19/2022
| Office of the Secretary and Deputy | Special Assistant to the Senior Advisor for Policy | DV210115 | 10/13/2021
|  | Advisor to Chief of Staff | DV220031 | 03/18/2022
|  | White House Liaison | DV220051 | 06/03/2022
| Veterans Benefits Administration | Special Assistant to the Under Secretary for Benefits | DV210112 | 09/29/2021
| Veterans Experience Office | Advisor to Chief Veterans Experience Officer (2) | DV220030 DV220042 | 03/18/2022 05/19/2022
|  | Strategic Advisor to Chief Veterans Experience Officer | DV220041 | 05/19/2022
| Veterans Health Administration | Special Assistant to the Under Secretary for Health | DV220009 | 12/08/2021

Authority: 5 U.S.C. 3301 and 3302; E.O.10577, 3 CFR, 1954-1958 Comp., p.218.

Office of Personnel Management.
Kayyonne Marston,
Federal Register Liaison.

[FR Doc. 2024-16723 Filed 7-29-24; 8:45 am]

BILLING CODE 6325-39-P